DEPARTMENT OF THE INTERIOR

Bureau of Land Management

[ES-960-1910-BJ-4489; ES-052439, Group No. 26, Illinois]

Eastern States: Filing of Plat of Survey

AGENCY: Bureau of Land Management, Interior.

ACTION: Notice of filing of plat of survey; Illinois.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the U.S. Army Corps of Engineers.

The lands we surveyed are:

Third Principal Meridian, Illinois

T. 4 N., R. 9 W.

The plat of survey represents the survey of an amended portion of the Locks and Dam No. 27 acquisition boundary, in Township 4 North, Range 9 West, of the Third Principal Meridian, in the State of Illinois, and was accepted on September 22, 2004.

We will place a copy of the plat we described in the open files. It will be made available to the public as a matter of information.

Dated: September 22, 2004.
Stephen D. Douglas,
Chief Cadastral Surveyor.

[FR Doc. 04-22807 Filed 10-8-04; 8:45 am]

BILLING CODE 4310-GJ-P